DEPARTMENT OF HOMELAND SECURITY

Federal Emergency Management Agency

[Docket ID FEMA-2019-0002]

Final Flood Hazard Determinations

AGENCY: Federal Emergency Management Agency, DHS.

ACTION: Notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below.

The FIRM and FIS report are the basis of the floodplain management measures that a community is required either to adopt or to show evidence of having in effect in order to qualify or remain qualified for participation in the Federal Emergency Management Agency's (FEMA's) National Flood Insurance Program (NFIP). In addition, the FIRM and FIS report are used by insurance agents and others to calculate appropriate flood insurance premium rates for buildings and the contents of those buildings.

DATES: The date of December 6, 2019 has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at https://msc.fema.gov by the date indicated above.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Insurance and Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at https://msc.fema.gov.

The flood hazard determinations are made final in the watersheds and/or communities listed in the table below.

(Catalog of Federal Domestic Assistance No. 97.022, “Flood Insurance.”)

Michael M. Grimm,
Assistant Administrator for Risk Management, Department of Homeland Security, Federal Emergency Management Agency.

Community | Community map repository address
Bladen County, North Carolina and Incorporated Areas
Docket No.: FEMA-B-1523
Town of Bladenboro | Town Hall, 411 Ivey Street, Bladenboro, NC 28320.
Unincorporated Areas of Bladen County | Bladen County Planning Department, 450 Smith Circle Drive #N8, Elizabethtown, NC 28337.
Brunswick County, North Carolina and Incorporated Areas
Docket Nos.: FEMA-B-1523 and B-1616
City of Northwest | City Hall, 4889 Vernon Road, Northwest, NC 28451.
Town of Navassa | Town Hall, 334 Main Street, Navassa, NC 28451.
Unincorporated Areas of Brunswick County | Brunswick County Government Complex, 30 Government Center Drive Northeast, Bolivia, NC 28422.
Columbus County, North Carolina and Incorporated Areas
Docket No.: FEMA-B-1523
City of Whiteville | City Hall, 24 Hill Plaza, Whiteville, NC 28472.
Town of Boardman | Boardman Town Hall, 1241 Old Boardman Road, Evergreen, NC 28438.
Town of Fair Bluff | Town Hall, 1175 Main Street, Fair Bluff, NC 28439.
Town of Tabor City | Town Manager's Office, 1108 East 5th Street, Tabor City, NC 28463.
Unincorporated Areas of Columbus County | Columbus County Planning Department, 111 Washington Street, Whiteville, NC 28472.
Durham County, North Carolina and Incorporated Areas
Docket No.: FEMA-B-1616
Unincorporated Areas of Durham County | Durham City-County Hall, 101 City Hall Plaza, Durham, NC 27701.
Granville County, North Carolina and Incorporated Areas
Docket No.: FEMA-B-1616
City of Creedmoor | Planning and Zoning Department, 111 Masonic Street, Creedmoor, NC 27522.
City of Oxford | Planning Department, 300 Williamsboro Street, Oxford, NC 27565.
Town of Butner | Department of Planning, 415 Central Avenue, Butner, NC 27509.
Town of Stem | Town Hall, 113 Tally Ho Road, Stem, NC 27581.
Unincorporated Areas of Granville County | Granville County Planning Department, 122 Williamsboro Street, Oxford, NC 27565.
New Hanover County, North Carolina and Incorporated Areas
Docket No.: FEMA-B-1523
Unincorporated Areas of New Hanover County | New Hanover County Planning and Land Use Department, 230 Government Center Drive, Suite 110, Wilmington, NC 28403.
Pender County, North Carolina and Incorporated Areas
Docket No.: FEMA-B-1523
Town of Atkinson | Town Hall, 200 North Town Hall Avenue, Atkinson, NC 28421.
Unincorporated Areas of Pender County | Pender County Planning Department, 805 South Walker Street, Burgaw, NC 28425.
Person County, North Carolina and Incorporated Areas
Docket No.: FEMA-B-1616
City of Roxboro | Planning Department, 105 South Lamar Street, Roxboro, NC 27573.
Unincorporated Areas of Person County | Person County Planning and Zoning Department, 325 South Morgan Street, Roxboro, NC 27573.
Robeson County, North Carolina and Incorporated Areas
Docket Nos.: FEMA-B-1523 and B-1616
City of Lumberton | Planning Department, 500 North Cedar Street, Lumberton, NC 28358.
Town of Maxton | Town Hall, 201 McCaskill Avenue, Maxton, NC 28364.
Town of Pembroke | Town Hall, 100 South Union Chapel Road, Pembroke, NC 28372.
Unincorporated Areas of Robeson County | Robeson County Administration Office, 701 North Elm Street, Lumberton, NC 28358.
Sampson County, North Carolina and Incorporated Areas
Docket No.: FEMA-B-1523
Unincorporated Areas of Sampson County | Sampson County Administration Office, 406 County Complex Road, Building C, Suite 110, Clinton, NC 28328.
Scotland County, North Carolina and Incorporated Areas
Docket No.: FEMA-B-1523
Unincorporated Areas of Scotland County | Scotland County Building Inspections, 507 West Covington Street, Laurinburg, NC 28352.
Vance County, North Carolina and Incorporated Areas
Docket No.: FEMA-B-1616
City of Henderson | Planning Department, 134 Rose Avenue, Henderson, NC 27536.
Unincorporated Areas of Vance County | Vance County Planning and Development Office, 156 Church Street, Suite 003, Henderson, NC 27536.
Wake County, North Carolina and Incorporated Areas
Docket No.: FEMA-B-1616
Unincorporated Areas of Wake County | Wake County Environmental Services Department, Waverly F. Akins Office Building, 336 Fayetteville Street, Raleigh, NC 27601.
Monroe County, Wisconsin and Incorporated Areas
Docket No.: FEMA-B-1851
Unincorporated Areas of Monroe County | Monroe County Zoning Office, 14345 County Highway B, Suite 5, Sparta, WI 54656.

[FR Doc. 2019-18550 Filed 8-27-19; 8:45 am]

BILLING CODE 9111-23-P